DEPARTMENT OF TRANSPORTATION

Federal Motor Carrier Safety Administration

[Docket No. FMCSA-2016-0213]

Qualification of Drivers; Exemption Applications; Vision

AGENCY: Federal Motor Carrier Safety Administration (FMCSA), DOT.

ACTION: Notice of applications for exemptions; request for comments.

SUMMARY: FMCSA announces receipt of applications from 18 individuals for exemption from the vision requirement in the Federal Motor Carrier Safety Regulations. They are unable to meet the vision requirement in one eye for various reasons. The exemptions will enable these individuals to operate commercial motor vehicles (CMVs) in interstate commerce without meeting the prescribed vision requirement in one eye. If granted, the exemptions would enable these individuals to qualify as drivers of commercial motor vehicles (CMVs) in interstate commerce.

DATES: Comments must be received on or before April 10, 2017. All comments will be investigated by FMCSA. The exemptions will be issued the day after the comment period closes.

ADDRESSES: You may submit comments bearing the Federal Docket Management System (FDMS) Docket No. FMCSA-2016-0213 using any of the following methods:

• Federal eRulemaking Portal: Go to http://www.regulations.gov. Follow the on-line instructions for submitting comments.

• Mail: Docket Management Facility; U.S. Department of Transportation, 1200 New Jersey Avenue SE., West Building Ground Floor, Room W12-140, Washington, DC 20590-0001.

• Hand Delivery: West Building Ground Floor, Room W12-140, 1200 New Jersey Avenue SE., Washington, DC, between 9 a.m. and 5 p.m., e.t., Monday through Friday, except Federal Holidays.

• Fax: 1-202-493-2251.

Instructions: Each submission must include the Agency name and the docket numbers for this notice. Note that all comments received will be posted without change to http://www.regulations.gov, including any personal information provided. Please see the Privacy Act heading below for further information.

Docket: For access to the docket to read background documents or comments, go to http://www.regulations.gov at any time or Room W12-140 on the ground level of the West Building, 1200 New Jersey Avenue SE., Washington, DC, between 9 a.m. and 5 p.m., e.t., Monday through Friday, except Federal holidays. The FDMS is available 24 hours each day, 365 days each year. If you want acknowledgment that we received your comments, please include a self-addressed, stamped envelope or postcard or print the acknowledgement page that appears after submitting comments on-line.

Privacy Act: In accordance with 5 U.S.C. 553(c), DOT solicits comments from the public to better inform its rulemaking process. DOT posts these comments, without edit, including any personal information the commenter provides, to www.regulations.gov, as described in the system of records notice (DOT/ALL-14 FDMS), which can be reviewed at www.dot.gov/privacy.

FOR FURTHER INFORMATION CONTACT: Ms. Christine A. Hydock, Chief, Medical Programs Division, (202) 366-4001, fmcsamedical@dot.gov, FMCSA, Department of Transportation, 1200 New Jersey Avenue SE., Room W64-113, Washington, DC 20590-0001. Office hours are 8:30 a.m. to 5 p.m., e.t., Monday through Friday, except Federal holidays. If you have questions regarding viewing or submitting material to the docket, contact Docket Services, telephone (202) 366-9826.

SUPPLEMENTARY INFORMATION:

I. Background

Under 49 U.S.C. 31136(e) and 31315, FMCSA may grant an exemption from the Federal Motor Carrier Safety Regulations for a 2-year period if it finds “such exemption would likely achieve a level of safety that is equivalent to or greater than the level that would be achieved absent such exemption.” FMCSA can renew exemptions at the end of each 2-year period. The 18 individuals listed in this notice have each requested such an exemption from the vision requirement in 49 CFR 391.41(b)(10), which applies to drivers of CMVs in interstate commerce. Accordingly, the Agency will evaluate the qualifications of each applicant to determine whether granting an exemption will achieve the required level of safety mandated by statute.

II. Qualifications of Applicants

James M. Demgard

Mr. Demgard, 49, has a prosthetic left eye due to a traumatic incident in 1996. The visual acuity in his right eye is 20/20, and in his left eye, no light perception. Following an examination in 2016, his optometrist stated, “I can certify James has a perfectly normal right eye in all aspects to perform the visual tasks required for commercial vehicle.” Mr. Demgard reported that he has driven straight trucks for 29 years, accumulating 536,500 miles. He holds an operator's license from New Jersey. His driving record for the last 3 years shows no crashes and no convictions for moving violations in a CMV.

David L. Erickson

Mr. Erickson, 66, has had amblyopia in his right eye since birth. The visual acuity in his right eye is 20/70, and in his left eye, 20/25. Following an examination in 2016, his optometrist stated, “His right eye has been diagnosed with Amblyopia [sic] which occurs at birth . . . In my professional opinion, Mr. David Erickson is qualified to obtain a commercial drivers [sic] license and safely drive a commercial vehicle on any major roadway.” Mr. Erickson reported that he has driven straight trucks for 30 years, accumulating 510,000 miles, and tractor-trailer combinations for 30 years, accumulating 1.14 million miles. He holds a Class A CDL from South Dakota. His driving record for the last 3 years shows no crashes and no convictions for moving violations in a CMV.

Ray A. Fields

Mr. Fields, 64, has had amblyopia in his left eye since childhood. The visual acuity in his right eye is 20/25, and in his left eye, 20/200. Following an examination in 2016, his optometrist stated, “It is my opinion that Ray's eyes and vision are such that he should be allowed to continue with a CDL license as required for his present job.” Mr. Fields reported that he has driven straight trucks for 7 years, accumulating 70,000 miles, and tractor-trailer combinations for 7 years, accumulating 14,000 miles. He holds a Class A CDL from Kansas. His driving record for the last 3 years shows no crashes and no convictions for moving violations in a CMV.

Jeffrey L. Gardner

Mr. Gardner, 51, has aphakia in his right eye due to removal of a congenital cataract in childhood. The visual acuity in his right eye is light perception, and in his left eye, 20/20. Following an examination in 2016, his optometrist stated, “Due to the long standing nature and stability of the patient's vision deficiency, he should have sufficient vision to perform the driving tasks required to operate a commercial vehicle.” Mr. Gardner reported that he has driven straight trucks for 16 years, accumulating 160,000 miles, and tractor-trailer combinations for 16 years, accumulating 160,000 miles. He holds a Class AM1 CDL from California. His driving record for the last 3 years shows no crashes and no convictions for moving violations in a CMV.

Thomas A. Grigsby

Mr. Grigsby, has a macular scar in his right eye due to a traumatic incident in 2013. The visual acuity in his right eye is 20/250, and in his left eye, 20/20. Following an examination in 2016, his ophthalmologist stated, “Based on that evidence, it would support the idea that he has sufficient vision to continue driving the commercial vehicle that he has done for the last three years without any complications that I am aware of.” Mr. Grigsby reported that he has driven tractor-trailer combinations for 7 years, accumulating 875,000 miles. He holds a Class A CDL from Arkansas. His driving record for the last 3 years shows no crashes and no convictions for moving violations in a CMV.

Eugene C. Hamilton

Mr. Hamilton, 47, has had amblyopia in his left eye since childhood. The visual acuity in his right eye is 20/20, and in his left eye, 20/60. Following an examination in 2016, his ophthalmologist stated, “In my opinion, Mr. Hamilton should be able to continue operating a commercial vehicle as he has safely for many years. He has not had any change in his condition over the last decade.” Mr. Hamilton reported that he has driven straight trucks for 25 years, accumulating 1 million miles. He holds a Class A CDL from North Carolina. His driving record for the last 3 years shows no crashes and no convictions for moving violations in a CMV.

Jay A. Harding

Mr. Harding, 54, has a macular scar in his right eye due to a traumatic incident in childhood. The visual acuity in his right eye is 20/50, and in his left eye, 20/20. Following an examination in 2016, his optometrist stated, “In my opinion, Mr. Harding has more than adequate vision to safely operate a commercial motor vehicle.” Mr. Harding reported that he has driven straight trucks for 3 years, accumulating 105,000 miles, and tractor-trailer combinations for 28 years, accumulating 2.8 million miles. He holds a Class A CDL from Oregon. His driving record for the last 3 years shows no crashes and one conviction for a moving violation in a CMV; he failed to stop when emerging from an alley, driveway, or building.

Melvin L. Hipsley III

Mr. Hipsley, 54, has had neovascular macular degeneration in his left eye since 2013. The visual acuity in his right eye is 20/20, and in his left eye, 20/60. Following an examination in 2016, his optometrist stated, “It is my medical opinion that Mr. Hipsley has sufficient vision to perform the driving tasks required to continue to operate a commercial vehicle.” Mr. Hipsley reported that he has driven straight trucks for 30 years, accumulating 1.2 million miles, and tractor-trailer combinations for 20 years, accumulating 800,000 miles. He holds a Class AM CDL from Maryland. His driving record for the last 3 years shows no crashes and no convictions for moving violations in a CMV.

Charlie E. Hoggard

Mr. Hoggard, 44, has had a chorioretinal scar in his right eye due to a traumatic incident in 1992. The visual acuity in his right eye is 20/100, and in his left eye, 20/20. Following an examination in 2016, his optometrist stated, “He suffered an explosive injury to his eye approximately 24 years ago, leaving him with a Chorioretinal Scar overlying the macula. At this time, Mr. Hoggard does not display any inability to operate a commercial vehicle due to his sustained injury from military service.” Mr. Hoggard reported that he has driven straight trucks for 24 years, accumulating 1.25 million miles, tractor-trailer combinations for 24 years, accumulating 1.25 million miles, and buses for 12 years, accumulating 180,000 miles. He holds a Class A CDL from Texas. His driving record for the last 3 years shows no crashes and no convictions for moving violations in a CMV.

Richard S. Huzzard

Mr. Huzzard, 75, has had macular degeneration in his right eye since 2013. The visual acuity in his right eye is light perception, and in his left eye, 20/20. Following an examination in 2016, his optometrist stated, “This certifies that in my medical opinion, mr. Huzzard has sufficient vision to perform the driving tasks required to operate a commercial vehicle.” Mr. Huzzard reported that he has driven straight trucks for 45 years, accumulating 495,000 miles, and tractor-trailer combinations for 45 years, accumulating 729,000 miles. He holds a Class AM CDL from Pennsylvania. His driving record for the last 3 years shows no crashes and no convictions for moving violations in a CMV.

Kenneth E. Lewis

Mr. Lewis, 56, has had a dense corneal scar in his right eye since 1998. The visual acuity in his right eye is no light perception, and in his left eye,20/20. Following an examination in 2016, his optometrist stated, “Assuming the results for the visual field examination is normal in the left eye, it is my opinion that Mr. Lewis possesses sufficient vision in the left eye to safely operate a commercial vehicle.” Mr. Lewis reported that he has driven straight trucks for 3 years, accumulating 226,080 miles. He holds a Class A CDL from California. His driving record for the last 3 years shows no crashes and no convictions for moving violations in a CMV.

George J. Paxson, III

Mr. Paxson, 60, has had amblyopia in his left eye since childhood. The visual acuity in his right eye is 20/20, and in his left eye, 20/200. Following an examination in 2016, his ophthalmologist stated, “This patient has strabismic amblyopia and exotropia in the left eye which has been stable for several decades. Based on this fact, it is my medical opinion that he has sufficient vision to perform the driving tasks required to operate a commercial vehicle.” Mr. Paxson reported that he has driven straight trucks for 39 years, accumulating 711,750 miles. He holds an operator's license from Delaware. His driving record for the last 3 years shows no crashes and no convictions for moving violations in a CMV.

Harlie C. Perryman, III

Mr. Perryman, 54, has a corneal scar in his left eye due to a traumatic incident in childhood. The visual acuity in his right eye is 20/20, and in his left eye, light perception. Following an examination in 2016, his ophthalmologist stated, “Vision in Right Eye is 20/20 meeting requirements to operate a commercial vehicle.” Mr. Perryman reported that he has driven straight trucks for 25 years, accumulating 575,000 miles. He holds an operator's license from Florida. His driving record for the last 3 years shows no crashes and no convictions for moving violations in a CMV.

Menno H. Reiff

Mr. Reiff, 55, has had amblyopia in his right eye since childhood. The visual acuity in his right eye is 20/200, and in his left eye, 20/20. Following an examination in 2016, his optometrist stated, “He would be absolutely safe to drive a commercial vehicle and to see traffic signals. He does not have any limitations from his vision because of his amblyopia whatsoever.” Mr. Reiff reported that he has driven straight trucks for 6 years, accumulating 48,000 miles and tractor-trailer combinations for 24 years, accumulating 768,000 miles. He holds a Class A CDL from Pennsylvania. His driving record for the last 3 years shows no crashes but two convictions in a CMV, one for an improper turn, and one for speeding; he exceeded the speed limit by 5 mph.

Steven R. Richter, Jr.

Mr. Richter, 42, has had amblyopia in his right eye since childhood. The visual acuity in his right eye is 20/100, and in his left eye, 20/20. Following an examination in 2016, his optometrist stated, “Stable vision in right eye since 1998. It is my medical opinion that Steve is safe to perform the driving tasks required to commercial operate a motor vehicle.” Mr. Richter reported that he has driven straight trucks for 22 years, accumulating 110,000 miles and tractor-trailer combinations for 22 years, accumulating 220,000 miles. He holds a Class A CDL from Minnesota. His driving record for the last 3 years shows no crashes and no convictions for moving violations in a CMV.

Robert R. Schwabe

Mr. Schwabe, 43, has had a retinal hamartoma in his right eye since 2007. The visual acuity in his right eye is 20/100, and in his left eye, 20/20. Following an examination in 2016, his optometrist stated, “In my opinion, Mr. Schwabe's visual capabilities are sufficient to perform the visual tasks required to operate a commercial vehicle.” Mr. Schwabe reported that he has driven straight trucks for 2 years, accumulating 1,000 miles, and tractor-trailer combinations for 19 years, accumulating 1.9 million miles. He holds a Class A CDL from Washington. His driving record for the last 3 years shows no crashes and no convictions for moving violations in a CMV.

Phillip Shelburne

Mr. Shelburne, 32, has a retinal detachment in his left eye due to a traumatic incident in childhood. The visual acuity in his right eye is light perception, and in his left eye, 20/20. Following an examination in 2016, his optometrist stated, “He has a history of decreased vision in the right eye secondary to trauma 30 years ago . . . in my medical opinion he will have no difficulties operating a commercial vehicle.” Mr. Shelburne reported that he has driven tractor-trailer combinations for 8 years, accumulating 400,000 miles. He holds a Class A CDL from Texas. His driving record for the last 3 years shows no crashes and no convictions for moving violations in a CMV.

Wade C. Uhlir

Mr. Uhlir, 42, has had a prosthetic left eye due to anophthalmia since childhood. The visual acuity in his right eye is 20/30, and in his left eye, no light perception. Following an examination in 2016, his optometrist stated, “Based on the vision testing as of July 20, 2016, he can safely perform the driving visual tasks required to operate a commercial motor vehicle.” Mr. Uhlir reported that he has driven tractor-trailer combinations for 14 years, accumulating 1.82 million miles. He holds a Class A CDL from Minnesota. His driving record for the last 3 years shows no crashes and no convictions for moving violations in a CMV.

III. Public Participation and Request for Comments

FMCSA encourages you to participate by submitting comments and related materials.

Submitting Comments

If you submit a comment, please include the docket number for this notice, indicate the specific section of this document to which each comment applies, and provide a reason for each suggestion or recommendation. You may submit your comments and material online or by fax, mail, or hand delivery, but please use only one of these means. FMCSA recommends that you include your name and a mailing address, an email address, or a phone number in the body of your document so the Agency can contact you if it has questions regarding your submission.

To submit your comment online, go to http://www.regulations.gov and put the docket number FMCSA-2016-0213 in the “Keyword” box, and click “Search. When the new screen appears, click on “Comment Now!” button and type your comment into the text box in the following screen. Choose whether you are submitting your comment as an individual or on behalf of a third party and then submit. If you submit your comments by mail or hand delivery, submit them in an unbound format, no larger than 8½ by 11 inches, suitable for copying and electronic filing. If you submit comments by mail and would like to know that they reached the facility, please enclose a stamped, self-addressed postcard or envelope.

FMCSA will consider all comments and material received during the comment period. FMCSA may issue a final determination at any time after the close of the comment period.

Viewing Comments and Documents

To view comments, as well as documents mentioned in this preamble as being available in the docket, go to http://www.regulations.gov and insert the docket number FMCSA-2016-0213 in the “Keyword” box and click “Search.” Next, click “Open Docket Folder” button and choose the document listed to review. If you do not have access to the Internet, you may view the docket online by visiting the Docket Management Facility in Room W12-140 on the ground floor of the DOT West Building, 1200 New Jersey Avenue SE., Washington, DC 20590, between 9 a.m. and 5 p.m., e.t., Monday through Friday, except Federal holidays.

Issued on: February 28, 2017.
Larry W. Minor,
Associate Administrator for Policy.

[FR Doc. 2017-04664 Filed 3-8-17; 8:45 am]

BILLING CODE 4910-EX-P